DEPARTMENT OF HEALTH AND HUMAN SERVICES

Centers for Disease Control and Prevention

[60Day-22-22EN; Docket No. CDC-2022-0056]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other federal agencies the opportunity to comment on a proposed information collection, as required by the Paperwork Reduction Act of 1995. This notice invites comment on proposed collection project titled Synopsis of State Oral Health Programs. This project collects data on state oral health infrastructure and capacity, including select indicators to monitor oral health status and trends and compare to other states, to inform planning and evaluation of oral health programs and policies, to measure state progress towards the Healthy People oral health objectives, and to educate the public and policy makers regarding cross-cutting public health programs.

DATES: Written comments must be received on or before July 5, 2022.

ADDRESSES: You may submit comments, identified by Docket No. CDC-2022-0056 by either of the following methods:

Federal eRulemaking Portal: www.regulations.gov. Follow the instructions for submitting comments.

Mail: Jeffrey M. Zirger, Information Collection Review Office, Centers for Disease Control and Prevention, 1600 Clifton Road NE, MS H21-8, Atlanta, Georgia 30329.

Instructions: All submissions received must include the agency name and Docket Number. All relevant comments received will be posted without change to www.regulations.gov, including any personal information provided. For access to the docket to read background documents or comments received, go to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Synopsis of State Oral Health Programs—Existing Collection in Use Without an OMB Control Number—National Center for Chronic Disease Prevention and Health Promotion (NCCDPHP), Centers for Disease Control and Prevention (CDC).

Background and Brief Description

This request is to collect information about human resources, programs, and infrastructure in oral health departments within a state health department for all 50 states and Washington, DC. Oral health affects our ability to eat, speak, smile, and show emotions. Oral health also affects a person's self-esteem, school performance, and attendance at work or school. Oral diseases—which range from cavities and gum disease to oral cancer—cause pain and disability for millions of Americans and cost taxpayers billions of dollars each year. CDC supports states in their efforts to reduce oral disease and improve oral health by using effective interventions. CDC provides state and territorial health departments with funding, guidance, and technical assistance to monitor oral disease across populations and to implement and evaluate oral health interventions.

The Association of State and Territorial Dental Directors (ASTDD) is a national non-profit organization representing the directors and staff of state public health agency programs for oral health. It was organized in 1948 and is one of 20 affiliates of the Association of State and Territorial Health Officials (ASTHO). ASTDD formulates and promotes the establishment of national dental public health policy. In addition, ASTDD; assists state dental programs in the development and implementation of programs and policies for the prevention of oral diseases; builds awareness and strengthens dental public health professionals' knowledge and skills by developing position papers and policy statements; provides information on oral health to health officials and policy makers; and conducts conferences for the dental public health community. The word “state” is used to indicate U.S. states, the District of Columbia, U.S. territories, and other U.S.-associated jurisdictions, except where explicitly noted otherwise.

In 1994, ASTDD originated the annual Synopses of Dental Programs to share information among dental directors and partners. The Synopses of State Oral Health Programs (herby referred to as State Synopses) described program activities and successes and the challenges that programs faced during the previous year. In 1997, ASTDD changed the format to a more structured questionnaire. Since 1998, ASTDD has been supported to collect data through cooperative agreements with CDC. This collection is necessary because no other agency or entity produces similar analyses or reports, and the Synopsis questionnaire is the only national data collection source tracking states' efforts to improve oral health and contributions to progress toward the national targets for Healthy People objectives for oral health.

OMB approval is requested for three years. CDC requests approval for an estimated 299 annual burden hours. Participation is voluntary and there are no costs to respondents other than their time.

Estimated Annualized Burden Hours
Type of respondents | Form name | Number of respondents | Number of responses per respondent | Average burden per response (in hours) | Total burden (in hours)
State Oral Health Director or designated program contact | 2022 Synopses of State Dental Public Health Programs | 51 | 1 | 5 | 299
Total |  |  |  |  | 299

Jeffrey M. Zirger,
Lead, Information Collection Review Office, Office of Scientific Integrity, Office of Science, Centers for Disease Control and Prevention.

[FR Doc. 2022-09783 Filed 5-5-22; 8:45 am]

BILLING CODE 4163-18-P